DEPARTMENT OF JUSTICE

Antitrust Division

Notice Pursuant to the National Cooperative Research and Production Act of 1993—VSI Alliance

Notice is hereby given that, on October 26, 2000, pursuant to section 6(a) of the National Cooperative Research and Production Act of 1993, 15 U.S.C. 4301 et seq. (“the Act”), VSI Alliance has filed written notifications simultaneously with the Attorney General and the Federal Trade Commission disclosing changes in its membership status. The notifications were filed for the purpose of extending the Act's provisions limiting the recovery of antitrust plaintiffs to actual damages under specified circumstances. Specifically, Steve Burchfiel, Austin, TX; Canon, Inc., Kawasaki, JAPAN; Embedded Solutions Ltd., Oxford, UNITED KINGDOM; eSilicon Corp., Palo Alto, CA; Duolog Technologies Limited, Dublin, IRELAND; Hewlett-Packard Company, Palo Alto, CA; Edward Lee, Berkeley, CA; Ian Mackintosh, San Jose, CA; Nsine Limited, Reading, UNITED KINGDOM; NurLogic Design, Inc., San Diego, CA; Semiconductor Technology Academic Research Center (STARC), Tokyo, JAPAN; The Athena Group, Inc., Gainesville, FL; and Verisity Design, Inc., Mountain View, CA have been added as parties to this venture. Also, Advanced Bytes & Rights Ltd., Bristol, UNITED KINGDOM; Cogency Technology, Inc., Toronto, Ontario, CANADA; EnThink, Inc., Santa Clara, CA; Institute of Microelectronics, Singapore, SINGAPORE; Integrated Chipware, Reston, VA; Seagate Technology, Scotts Valley, CA; Synthesis Corp., Osaka, JAPAN; and Unisys Corp., San Diego, CA have been dropped as parties to this venture.

No other changes have been made in either the membership or planned activity of the group research project. Membership in this group research project remains open, and VSI Alliance intends to file additional written notification disclosing all changes in membership.

On November 29, 1996, VSI Alliance filed its original notification pursuant to section 6(a) of the Act. The Department of Justice published a notice in the Federal Register pursuant to section 6(b) of the Act on March 4, 1997 (62 FR 9812).

The last notification was filed with the Department on July 13, 2000. A notice was published in the Federal Register pursuant to section 6(b) of the Act on October 3, 2000 (65 FR 59018).

Constance K. Robinson,
Director of Operations, Antitrust Division.

[FR Doc. 01-4063 Filed 2-16-01; 8:45 am]

BILLING CODE 4410-11-M